POSTAL SERVICE

39 CFR Part 111

Addressing Standards

AGENCY: Postal Service™.

ACTION: Proposed rule.

SUMMARY: The Postal Service is proposing to amend Mailing Standards of the United States Postal Service, Domestic Mail Manual (DMM®) in various sections of 602, Addressing, to update addressing standards.

DATES: Submit comments on or before October 22, 2020.

ADDRESSES: Mail or deliver written comments to the manager, Product Classification, U.S. Postal Service, 475 L'Enfant Plaza SW, Room 4446, Washington, DC 20260-5015. If sending comments by email, include the name and address of the commenter and send to PC Federal Register@usps.gov, with a subject line of “Addressing Standards”. Faxed comments are not accepted.

Confidentiality

All submitted comments and attachments are part of the public record and subject to disclosure. Do not enclose any material in your comments that you consider to be confidential or inappropriate for public disclosure.

You may inspect and photocopy all written comments, by appointment only, at USPS® Headquarters Library, 475 L'Enfant Plaza SW, 11th Floor North, Washington, DC 20260. These records are available for review on Monday through Friday, 9 a.m.-4 p.m., by calling 202-268-2906.

FOR FURTHER INFORMATION CONTACT: James Wilson at (901) 681-4600, Kai Fisher at (901) 681-4634, or Garry Rodriguez at (202) 268-7281.

SUPPLEMENTARY INFORMATION:

Background

Currently, DMM section 602.6.0, ZIP Code Accuracy Standards, provides that a ZIP Code may be used on a mail piece within 12 months after verified by the use of an approved method. Once a ZIP Code is used on a mailpiece, the same address is considered to meet the standards for an additional 1 year.

DMM sections 602.7.0, Carrier Route Accuracy Standard, and 9.0, Coding Accuracy Support System (CASS), provide that Address Matching and Coding Update standards require coding to be performed within 90 days before the mailing date for carrier route mailings and 180 days for all non-carrier route mailings using the most current USPS database. The current product release schedule allows for use of a database that is valid for 105 days and may be used for an additional 6 months beyond that timeframe. As such, an address added or modified in the database may not be updated on a mailing list for nearly 1 year after the change was made.

In 2012 the Postal Service implemented address management product fulfillment via an electronic product fulfillment method designed to provide subscription products to customers more efficiently. The database product updates are posted each month to a secure site where customers can log in to simply download the product files. A recent survey of licensed Address Management data products indicate that CASS and Multiline Accuracy Support System (MASS) Certified software and service providers are retrieving and using the monthly updates during the address matching and coding processes.

Proposal

The Postal Service is proposing a database product cycle that aligns with the release of other mailing products. This will provide consistency across all mailing products and the method by which the data files are available and distributed. This proposal would require the use of monthly updates for both carrier route and non-carrier route mailings and would reduce the risk of using data that is no longer current.

More frequent updates allow the customer and the Postal Service to take advantage of the most current information available for the 158.6 million addresses served by the USPS. It will maximize mailers' ability to obtain postage discounts and improve the ability to sort that mail to the proper carrier and in the proper sequence for delivery.

The proposed release schedule allows for an overlap in dates for product use and will allow mailers adequate time to transfer and install the new data files and test their systems. Mailers will be expected to update their systems with the latest data files as soon as practicable and should not wait until the “last permissible use” date.

The Postal Service is proposing to implement this change effective July 1, 2021. However, mailers may opt to use the new monthly update cycles for both carrier route and non-carrier route mailings immediately.

We believe this proposed revision will provide customers with a more efficient process and will reduce the risk of using address information that is not current.

List of Subjects in 39 CFR Part 111

Administrative practice and procedure, Postal Service.

Although exempt from the notice and comment requirements of the Administrative Procedure Act (5 U.S.C. 553(b), (c)) regarding proposed rulemaking by 39 U.S.C. 410(a), the Postal Service invites public comment on the following proposed revisions to Mailing Standards of the United States Postal Service, Domestic Mail Manual (DMM), incorporated by reference in the Code of Federal Regulations. See 39 CFR 111.1.

We will publish an appropriate amendment to 39 CFR part 111 to reflect these changes.

Accordingly, 39 CFR part 111 is proposed to be amended as follows:

PART 111—GENERAL INFORMATION ON POSTAL SERVICE

1. The authority citation for 39 CFR part 111 continues to read as follows:

Authority: 5 U.S.C. 552(a); 13 U.S.C. 301-307; 18 U.S.C. 1692-1737; 39 U.S.C. 101, 401, 403, 404, 414, 416, 3001-3011, 3201-3219, 3403-3406, 3621, 3622, 3626, 3632, 3633, and 5001.

2. Revise the Mailing Standards of the United States Postal Service, Domestic Mail Manual (DMM) as follows:

Mailing Standards of the United States Postal Service, Domestic Mail Manual (DMM)

* * * * *

600 Basic Standards for All Mailing Services

* * * * *

602 Addressing

* * * * *

6.0 ZIP Code Accuracy Standards

6.1 Basic Standards

Except for mail bearing a simplified address, addresses used on pieces in a mailing at all commercial First-Class Mail, nonbarcoded presorted Periodicals, USPS Marketing Mail, Parcel Select Lightweight, and Bound Printed Matter presorted and carrier route prices are subject to the ZIP Code accuracy standard and must meet these requirements:

[Revise the text of items a and b to read as follows:]

a. Each address and associated 5-digit ZIP Code on the mailpieces in a mailing must be verified and corrected within 6 months before the mailing date with one of the USPS-approved methods in 6.2.

b. If an address used on a mailpiece in a mailing at one class of mail and price is verified and corrected with an approved method, the same address may be used during the following 6 months to meet the ZIP Code accuracy standard required for mailing at any other class of mail and price.

6.2 USPS—Approved Methods

The following methods meet the ZIP Code accuracy standard:

* * * * *

b. For manually maintained lists or small computerized lists, options include the following:

[Delete item b1 and renumber items b2 through b5 as items b1 through b4.]

* * * * *

7.0 Carrier Route Accuracy Standard

7.1 Basic Standards

* * * Addresses used on pieces claiming any Periodicals carrier route prices, any USPS Marketing Mail Enhanced Carrier Route prices (including DALs or DMLs used with Product Samples), or any Bound Printed Matter carrier route prices are subject to the carrier route accuracy standard and must meet the following requirements:

[Revise the text of item a to read as follows:]

a. Each address and associated carrier route code used on the mailpieces (or DALs or DMLs) in a mailing must be updated within 60 days before the mailing date with one of the USPS-approved methods in 6.2.

* * * * *

[Revise the text of item c to read as follows:]

c. If the carrier route code (and accuracy) of an address, used on a mailpiece in a carrier route mailing at one class of mail and price, is updated with an approved method, the same address may be used during the following 60 days to meet the carrier route accuracy standard required for mailing at any other class of mail and price.

* * * * *

9.0 Coding Accuracy Support System (CASS)

* * * * *

9.3 Date of Address Matching and Coding

9.3.1 Update Standards

[Revise the second sentence and last sentence of 9.3.1 to read as follows:]

* * * Coding must be done no more than 60 days before the mailing date for all carrier route mailings and for all non-carrier route automation price mailings. * * *

* * * The “current USPS database” product cycle is defined by the table in Exhibit 9.3.1.

[Delete current table under 9.3.1 and add new table as Exhibit 9.3.1 to read as follows:]

Exhibit 9.3.1—USPS Database Product Cycle
Release date (posted): Use of file released on | Product date: (Publish date) | Mandatory begin usage date: Must begin no later than | Expiration date (last permissible use date): And must end no later than | Last permissible mailing date: (Exp date + 30 days)
November 15 | December 1 | January 1 | February 28/29 | March 31
December 15 | January 1 | February 1 | March 31 | April 30
January 15 | February 1 | March 1 | April 30 | May 31
February 15 | March 1 | April 1 | May 31 | June 30
March 15 | April 1 | May 1 | June 30 | July 31
April 15 | May 1 | June 1 | July 31 | August 31
May 15 | June 1 | July 1 | August 31 | September 30
June 15 | July 1 | August 1 | September 30 | October 31
July 15 | August 1 | September 1 | October 31 | November 30
August 15 | September 1 | October 1 | November 30 | December 31
September 15 | October 1 | November 1 | December 31 | January 31
October 15 | November 1 | December 1 | January 31 | February 28/29

* * * * *

Joshua J. Hofer,
Attorney, Federal Compliance.

[FR Doc. 2020-19096 Filed 9-21-20; 8:45 am]

BILLING CODE 7710-12-P